DEPARTMENT OF HEALTH AND HUMAN SERVICES

National Institutes of Health

National Cancer Institute; Notice of Meeting

Pursuant to section 10(a) of the Federal Advisory Committee Act, as amended (5 U.S.C. Appendix 2), notice is hereby given of a meeting of the National Cancer Institute Director's Consumer Liaison Group.

The meeting will be open to the public, with attendance limited to space available. Individuals who plan to attend and need special assistance, such as sign language interpretation or other reasonable accommodations, should notify the Contact Person listed below in advance of the meeting.

Name of Committee: National Cancer Institute Director's Consumer Liaison Group.

Date: March 26-27, 2009.

Time: March 26, 2009, 8:30 a.m. to 4 p.m.

Agenda: (1) Approval of Minutes and Welcome; (2) Office of Advocacy Relations Update; (3) Advocates in Research Working Group Update and Discussion; (4) PCP Update and Discussion; (5) Approaches to Engaging Advocates in Translational Research.

Place: Omni Austin Hotel Downtown, Omni Austin Hotel, 700 San Jacinto at 8th Street, Lonestar Room, Austin, TX 78701.

Time: March 26, 2009, 6 p.m. to 8 p.m.

Agenda: A public forum to discuss community priorities will be held in conjunction with the meeting at the same location.

Place: Omni Austin Hotel Downtown, Omni Austin Hotel, 700 San Jacinto at 8th Street, Lonestar Room, Austin, TX 78701.

Time: March 27, 2009, 8:30 a.m. to 4 p.m.

Agenda: (6) Discussion of Community Priorities; (7) Discussion of Innovative Advocate Involvement Strategies; (8) Roundtable Evaluation Discussion; (9) Cancer Prevention and Research Institute of Texas Presentation and Discussion; (10) NCI Director's Update; (11) Past Meeting Topic Follow Up; (12) Public Comment; (13) Action Items and Conclusion.

Place: Omni Austin Hotel Downtown, Omni Austin Hotel, 700 San Jacinto at 8th Street, Lonestar Room, Austin, TX 78701.

Contact Person: Benjamin Carollo, MPA, Advocacy Relations Manager, Office of Advocacy Relations, Building 31, Room 10A30, 31 Center Drive, MSC 2580, National Cancer Institute, NIH, DHHS, Bethesda, MD 20892-2580, 301-496-0307, carollob@mail.nih.gov.

Any interested person may file written comments with the committee by forwarding the statement to the Contact Person listed on this notice. The statement should include the name, address, telephone number and when applicable, the business or professional affiliation of the interested person.

Information is also available on the Institute's/Center's home page: deainfo.nci.nih.gov/advisory/dclg/dclg.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: February 5, 2009.
Jennifer Spaeth,
Director, Office of Federal Advisory Committee Policy.

[FR Doc. E9-2955 Filed 2-11-09; 8:45 am]

BILLING CODE 4140-01-P